DEPARTMENT OF ENERGY

Federal Energy Regulatory Commission

[Docket No. RP04-373-000]

Columbia Gulf Transmission Company; Notice of Tariff Filing

July 8, 2004.

Take notice that on July 1, 2004, Columbia Gulf Transmission Company (Columbia Gulf) tendered for filing as part of its FERC Gas Tariff, Second Revised Volume No. 1, the following revised tariff sheets with a proposed effective date of August 1, 2004:

Thirty-fourth Revised Sheet No. 18

Twenty-fourth Revised Sheet No. 18A

Thirty-fifth Revised Sheet No. 19

Sixth Revised Sheet No. 262

Columbia Gulf states it is submitting the above-referenced revised tariff sheets for the purpose of eliminating the Research, Development and Demonstration (RD&D) funding surcharge currently reflected in Columbia Gulf's rates and collected on behalf of the Gas Research Institute (GRI). Columbia Gulf further states that the elimination of the RD&D funding surcharge is being proposed in accordance with the terms of the 1998 Settlement Agreement entered into by GRI and numerous parties.

Columbia Gulf states that copies of its filing have been mailed to all firm customers, interruptible customers, and affected state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1559 Filed 7-13-04; 8:45 am]

BILLING CODE 6717-01-P